DEPARTMENT OF HOMELAND SECURITY

Coast Guard

33 CFR Part 117

[Docket No. USCG-2018-0931]

Drawbridge Operation Regulation; Wicomico River, Salisbury, MD

AGENCY: Coast Guard, DHS.

ACTION: Notice of deviation from drawbridge regulation.

SUMMARY: The Coast Guard has issued a temporary deviation from the operating schedule that governs the Main Street Bridge across the Wicomico River (North Prong), mile 22.4, at Salisbury, MD. The deviation is necessary to accommodate the cleaning and painting of the bridge. This deviation allows the bridge to remain in the closed-to-navigation position and open on signal if at least 24 hours notice is given.

DATES: The deviation is effective from 6 a.m. on October 5, 2018, through 6 a.m. on December 31, 2018.

ADDRESSES: The docket for this deviation, [USCG-2018-0931] is available at http://www.regulations.gov. Type the docket number in the “SEARCH” box and click “SEARCH”. Click on Open Docket Folder on the line associated with this deviation.

FOR FURTHER INFORMATION CONTACT: If you have questions on this temporary deviation, call or email Mr. Martin Bridges, Bridge Administration Branch Fifth District, Coast Guard, telephone 757-398-6422, email Martin.A.Bridges@uscg.mil.

SUPPLEMENTARY INFORMATION: The Maryland Department of Transportation State Highway Administration, who owns and operates the Main Street Bridge across the Wicomico River (North Prong), mile 22.4, at Salisbury, MD, has requested a temporary deviation from the current operating regulation. This temporary deviation is necessary to accommodate cleaning and painting of the bridge. The bridge is a double bascule bridge and has a vertical clearance in the closed position of 1 foot above mean high water.

The current operating schedule is set out in 33 CFR 117.579. Under this temporary deviation, the bridge will be maintained in the closed-to-navigation position from 6 a.m. on October 5, 2018, through 6 a.m. on December 31, 2018. The Wicomico River is used by tug and barge, and small commercial vessels. The Coast Guard has carefully coordinated the restrictions with waterway users in publishing this temporary deviation.

The bridge will be able to open for emergencies and there is no immediate alternate route for vessels unable to pass through the bridge in the closed position. The Coast Guard will also inform the users of the waterway through our Local and Broadcast Notice to Mariners of the change in operating schedule for the bridge so that vessels can arrange their transits to minimize any impacts caused by the temporary deviation.

In accordance with 33 CFR 117.35(e), the drawbridge must return to its regular operating schedule immediately at the end of the effective period of this temporary deviation. This deviation from the operating regulations is authorized under 33 CFR 117.35.

Dated: October 2, 2018.
Hal R. Pitts,
Bridge Program Manager, Fifth Coast Guard District.

[FR Doc. 2018-21771 Filed 10-4-18; 8:45 am]

BILLING CODE 9110-04-P